DEPARTMENT OF ENERGY

Federal Energy Regulatory Commission

Combined Notice of Filings

Take notice that the Commission has received the following Natural Gas Pipeline Rate and Refund Report filings:

Filings Instituting Proceedings

Docket Number: PR17-45-000.

Applicants: Liberty Utilities (Midstates Natural Gas) Corp.

Description: Tariff filing per 284.123(b),(e)/: Application for Revised Rates Filing to be effective 6/10/2016; Filing Type: 980.

Filed Date: 6/2/17.

Accession Number: 201706025156.

Comments/Protests Due: 5 p.m. ET 6/23/17.

Docket Numbers: RP17-803-001.

Applicants: Gulf South Pipeline Company, LP.

Description: Gulf South Pipeline Company, LP submits tariff filing per 154.205(b): Amendment to Filing in RP17-803-000 to be effective 6/1/2017.

Filed Date: 06/02/2017.

Accession Number: 20170602-5040.

Comment Date: 5:00 p.m. Eastern Time on Wednesday, June 14, 2017.

Docket Numbers: RP17-817-001.

Applicants: ANR Pipeline Company.

Description: ANR Pipeline Company submits tariff filing per 154.205(b): Amendment to RP17-817-000 to be effective 6/1/2017.

Filed Date: 06/02/2017.

Accession Number: 20170602-5148.

Comment Date: 5:00 p.m. Eastern Time on Wednesday, June 14, 2017.

Docket Numbers: RP17-821-000.

Applicants: Gulf South Pipeline Company, LP.

Description: Gulf South Pipeline Company, LP submits tariff filing per 154.204: Amendment to Neg Rate Agmt (FPL 41618-27) to be effective 6/1/2017.

Filed Date: 06/02/2017.

Accession Number: 20170602-5041.

Comment Date: 5:00 p.m. Eastern Time on Wednesday, June 14, 2017.

Docket Numbers: RP17-822-000.

Applicants: Gulf South Pipeline Company, LP.

Description: Gulf South Pipeline Company, LP submits tariff filing per 154.204: Amendments to Neg Rate Agmts (ExGen 43197-6, 43198-7) to be effective 6/2/2017.

Filed Date: 06/05/2017.

Accession Number: 20170605-5029.

Comment Date: 5:00 p.m. Eastern Time on Monday, June 19, 2017.

Docket Numbers: RP17-823-000.

Applicants: Texas Eastern Transmission, LP.

Description: Texas Eastern Transmission, LP submits tariff filing per 154.204: Negotiated Rate—Range to Calpine—contract 8946298 to be effective 6/3/2017.

Filed Date: 06/05/2017.

Accession Number: 20170605-5193.

Comment Date: 5:00 p.m. Eastern Time on Monday, June 19, 2017.

Docket Numbers: RP17-824-000.

Applicants: Eastern Shore Natural Gas Company.

Description: Eastern Shore Natural Gas Company submits tariff filing per 154.204: Fuel Retention and Cash-Out Adjustment to be effective 7/1/2017.

Filed Date: 06/05/2017.

Accession Number: 20170605-5194.

Comment Date: 5:00 p.m. Eastern Time on Monday, June 19, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 6, 2017.
Kimberly D. Bose,
Secretary.

[FR Doc. 2017-12394 Filed 6-14-17; 8:45 am]

BILLING CODE 6717-01-P